DEPARTMENT OF DEFENSE

Department of the Navy

Information on Surplus Land at a Military Installation Designated for Disposal: NAS, Brunswick, ME

AGENCY: Department of the Navy, DoD.

ACTION: Notice.

SUMMARY: This notice provides information on the surplus property at Naval Air Station (NAS), Brunswick, ME.

FOR FURTHER INFORMATION CONTACT: Ms. Kimberly Kesler, Director, Base Realignment and Closure Program Management Office, 1455 Frazee Road, San Diego, CA 92108-4310, telephone 619-532-0993 or Mr. David Drozd, Director, Base Realignment and Closure Program Management Office, Northeast, 4911 South Broad Street, Philadelphia, PA 19112-1303, telephone 215-897-4909.

SUPPLEMENTARY INFORMATION: In 2005, NAS, Brunswick, ME, was designated for closure under the authority of the Defense Base Closure and Realignment Act of 1990, Public Law 101-510, as amended (the Act). Pursuant to this designation, on January 23, 2006, land and facilities at this installation were declared excess to the Department of Navy (DON) and available to other Department of Defense components and other Federal agencies. The DON has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at NAS, Brunswick, ME, is published in the Federal Register.

Redevelopment Authority. The local redevelopment authority (LRA) for NAS, Brunswick, ME, is the Brunswick Local Redevelopment Authority. The point of contact is Mr. Steve Levesque, Executive Director, Fort Andross, 14 Maine Street, Box 17, Brunswick, ME 04011, telephone 207-798-6512.

Surplus Property Description. The following is a list of the land and facilities at NAS, Brunswick, along with the following off-site components: McKeen Street Housing Area, East Brunswick Radio Transmitter Site, and Sabino Hill Rake Station that are surplus to the needs of the Federal Government.

Main Base

a. Land. NAS, Brunswick, ME—Main Base consists of approximately 3,045 acres of improved and unimproved fee simple land, and includes 26 acres situated north of Bath Road, located within Cumberland County and the Town of Brunswick. In general, the area will be available when the installation closes in September 2011. However, approximately 115 acres of the main base, which is improved with 342 units of housing, garages, a maintenance building, and a butler building, is currently outleased to Northeast Housing LLC. Since the lease expires October 31, 2054, the housing area will be available subject to the lease.

Not included in this notice of surplus are the 342 units of housing, garages, maintenance building, and butler building. These improvements are owned by Northeast Housing LLC.

This surplus notice also does not include three parcels of land designated for federal transfer. The first parcel is approximately 51 acres of primarily undeveloped property within the Weapons Compound located in the southern portion of the installation. This area will be transferred to the Department of the Army on or before operational closure. The second parcel consists of approximately 11.2 acres at the existing Nationwide Differential Global Positioning System site and includes unimproved and improved land and associated facilities. This area will be transferred to the U.S. Coast Guard on or before operational closure. The third parcel consists of approximately 10 acres and includes the Tower/Radar Approach Control Facility. This area will be transferred to the Federal Aviation Administration on or before operational closure.

b. Buildings. The following is a summary of the buildings and other improvements located on the above-described Main Base land that will also be available when the installation closes.

(1) Aviation buildings (7 structures). Comments: Approximately 523,659 square feet, includes hangars. Approximately 1,145,568 square yards of aviation facilities (13 structures), includes taxiways, dual runways, parking aprons, line vehicle parking, etc.

(2) Administrative/training facilities (16 structures). Comments: Approximately 114,447 square feet.

(3) Bachelor Quarters (21 structures). Comments: Approximately 319,209 square feet.

(4) Maintenance Production Facilities (65 structures). Comments: Approximately 301,526 square feet, includes public works shop, auto equipment repair shop, operations buildings, support buildings/facilities, etc.

(5) Storage/Warehouse Facilities (15 structures). Comments: Approximately 90,700 square feet. Approximately 18,204 square yards of open storage, including loading platform, storage yard, etc.

(6) Community Support Facilities (25 structures). Comments: Approximately 276,559 square feet, includes community facility, physical fitness facility, service station, bowling center, chapel, Navy Exchange retail complex, indoor fitness center, child care center, family services center, picnic shelter, auto hobby shop, Navy lodge, recycling center, etc. Approximately 175,000 square yards of athletic fields, playing courts, etc.

(7) Miscellaneous facilities (13 structures). Comments: Approximately 57,770 square feet, includes fire rescue facility, vet clinic, medical/dental clinic, etc.

(8) Paved areas (roads). Comments: Approximately 372,928 square yards consisting of roads and other similar pavements. Approximately 365,555 square yards consisting of other surface areas, i.e., parking areas, sidewalks, etc.

(9) Utility facilities (approximately 8 structures). Comments: measuring systems vary; storm sewer, sanitary sewer, electric, and water.

McKeen Street Housing Area

a. Land. NAS, Brunswick, ME—McKeen Street Housing Area consists of approximately 70 acres of improved and unimproved fee simple land located within Cumberland County and the Town of Brunswick. In general, the area will be available when the installation closes in September 2011. However, the land, formerly known as “Capehart Housing,” which is improved with 231 units of housing, garages, a community center, and a storage building, is currently outleased to Northeast Housing LLC. Since the lease expires October 31, 2054, the property will be available subject to the lease.

Not included in this notice of surplus are the Housing Quarters (231 units of housing), garages, a community center, a maintenance building, and paved areas (roads and pavements). These improvements are owned by Northeast Housing LLC.

b. Improvements. The following is a summary of the improvements located on the above-described McKeen Street land that will also be available when the installation closes.

(1) Utility facilities (approximately 4 structures). Comments: measuring systems vary; storm drainage, sanitary sewer, electrical distribution, water distribution, etc.

East Brunswick Radio Transmitter Site

a. Land. NAS, Brunswick, ME—East Brunswick Radio Transmitter Site consists of approximately 66 acres of improved and unimproved fee simple land located within Cumberland County and the Town of Brunswick. In general, the area will be available when the installation closes in September 2011.

Sabino Hill Rake Station

a. Land. NAS, Brunswick, ME—Sabino Hill Rake Station consists of approximately 0.23 acre of improved and unimproved fee simple land located within Sagadahoc County and the Town of Phippsburg. In general, the area will be available when the installation closes in September 2011.

b. Buildings. The following improvements, located on the above-described Sabino Hill land, will also be available when the installation closes.

(1) Miscellaneous building (1 structure), Rake Tower.

(2) Paved areas (roads). Comments: 67 square yards.

Redevelopment Planning. Pursuant to section 2905(b)(7)(F) of the Act, the Brunswick LRA will conduct a community outreach effort with respect to the surplus property, and will publish, within 30 days of the date of this notice, in a newspaper of general circulation in the communities within the vicinity of NAS, Brunswick, ME, the time period during which the LRA will receive notices of interest from State and local governments, representatives of the homeless, and other interested parties. This publication shall include the name, address, and telephone number of the point of contact for the LRA who can provide information on the prescribed form and contents of the notices of interest.

Dated: February 9, 2007.
M.A. Harvison,
Lieutenant Commander, Judge Advocate General's Corps, U.S. Navy, Federal Register Liaison Officer.

[FR Doc. E7-2762 Filed 2-15-07; 8:45 am]

BILLING CODE 3810-FF-P